DEPARTMENT OF ENERGY

Federal Energy Regulatory Commission

[Project No. 13373-000]

Hydrodynamics, Inc.; Notice of Preliminary Permit Application Accepted for Filing and Soliciting Comments, Motions To Intervene, and Competing Applications

April 23, 2009.

On February 12, 2009, Hydrodynamics, Inc. filed an application for a preliminary permit, pursuant to section 4(f) of the Federal Power Act, proposing to study the feasibility of the Cooney Reservoir Hydroelectric Project, which would be located at the existing Cooney Reservoir dam on Red Lodge Creek near the town of Boyd in Carbon County, Montana. The sole purpose of a preliminary permit, if issued, is to grant the permit holder priority to file a license application during the permit term. A preliminary permit does not authorize the permit holder to perform any land disturbing activities or otherwise enter upon lands or waters owned by others without the owners' express permission.

The proposed project would consist of the following:

(1) An existing 2,369-foot-long, 103-foot-high earthen dam; (2) an existing reservoir with a surface area of 1,078 acres and a storage capacity of 28,230 acre-feet at the normal water surface elevation of 4,173 feet mean sea level; (3) an existing 430-foot-long concrete dam outlet works tunnel, which would be lined with steel; (4) a new 54-inch-diameter, 430-foot-long penstock in the tunnel; (5) a new 20-foot-long penstock extending from the tunnel to the powerhouse; (6) a new powerhouse containing two generating units with a combined installed capacity of 0.8 megawatts; (7) a new tailrace discharging flows into Red Lodge Creek at the base of the dam; (8) a new substation; (9) a proposed 15-kilovolt, 8-mile-long transmission line; and (10) appurtenant facilities. The proposed project would have an average annual generation of 4.2 gigawatt-hours.

Applicant Contact: Ben Singer, Project Manager, Hydrodynamics, Inc., P.O. Box 1136, Bozeman, MT 59771; phone: (406) 587-5086.

FERC Contact: Dianne Rodman, (202) 502-6077.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13373) in the docket number field to access the document. For assistance, call toll-free 1-866-208-3372.

Kimberly D. Bose,
Secretary.

[FR Doc. E9-10100 Filed 5-1-09; 8:45 am]

BILLING CODE 6717-01-P